DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of August 24 through September 4, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-70,019; Bergquist Co., Touch Screen, Express Employment, Aerotek, Cannon Falls, MN: May 18, 2008

TA-W-70,028; Three Rivers Timber, Inc., Kamiah, ID: May 18, 2008

TA-W-70,155; International Auto Components (IAC) Sidney, LLC, Formerly Lear Corporation), Southern OPS Unit Division, Sidney, OH: March 16, 2009

TA-W-70,623; General Motors Company, Lordstown Assembly Plant & leased workers, Warren, OH: May 18, 2008

TA-W-70,752A; Hampton Lumber Mills, Inc., DBA Willamina Lumber Company, Leased workers From Express Personnel Services, Willamina, OR: May 18, 2008

TA-W-70,752; Hampton Lumber Mills, Inc., DBA Tillamook Lumber Company, Leased workers From Barrett Business Services, Tillamook, OR: May 18, 2008

TA-W-70,907; TRW Automotive, NABS Div., Mt. Vernon, OH: February 24, 2009

TA-W-70,989A; Klaussner Furniture Industries, Inc., Plant #33, Asheboro, NC: June 2, 2008

TA-W-70,989; Klaussner Furniture Industries, Inc., Plant #3, Asheboro, NC: June 2, 2008

TA-W-71,392; Donaldson Company, Cresco, IA: June 23, 2008

TA-W-70,010; American Pride, LLC, Guilford, ME: May 18, 2008

TA-W-70,037A; Noranda Aluminum, Inc., Green Carbon Department, A Subsidiary of Noranda Aluminum Holding, New Madrid, MO: May 18, 2008

TA-W-70,037B; Noranda Aluminum, Inc., Carbon Rodding Department, A Subsidiary of Noranda Aluminum Holding, New Madrid, MO: May 18, 2008

TA-W-70,037C; Noranda Aluminum, Inc., Carbon Bake Department, A Subsidiary of Noranda Aluminum Holding, New Madrid, MO: May 18, 2008

TA-W-70,037D; Noranda Aluminum, Inc., Air Control Department, A Subsidiary of Noranda Aluminum Holding, New Madrid, MO: May 18, 2008

TA-W-70,037E; Noranda Aluminum, Inc., River Unloading Department, A Subsidiary of Noranda Aluminum Holding, New Madrid, MO: May 18, 2008

TA-W-70,037F; Noranda Aluminum, Inc., 136 Area Department, A Subsidiary of Noranda Aluminum Holding, New Madrid, MO: May 18, 2008

TA-W-70,037G; Noranda Aluminum, Inc., Pot Lines I, II, III Department, A Subsidiary of Noranda Aluminum Holding, New Madrid, MO: May 18, 2008

TA-W-70,037H; Noranda Aluminum, Inc., Pot Services Department, A Subsidiary of Noranda Aluminum Holding, New Madrid, MO: May 18, 2008

TA-W-70,037I; Noranda Aluminum, Inc., Technical Services Department, A Subsidiary of Noranda Aluminum Holding, New Madrid, MO: May 18, 2008

TA-W-70,037; Noranda Aluminum, Inc., Maintenance Department, A Subsidiary of Noranda Aluminum Holding, New Madrid, MO: May 18, 2008

TA-W-70,055; Ovonic Energy Products, Springboro, OH: May 18, 2008

TA-W-70,073; Le Sueur, Inc., Team Personnel, Le Sueur, MN: May 18, 2008

TA-W-70,131; Niagara Cutter, Reynoldsville, PA: May 18, 2008

TA-W-70,447; Paragon Store Fixtures, Inc., Leased workers From Masterson Personnel, Aerotek & Minneapolis Drafting, Big Lake, MN: May 18, 2008

TA-W-70,515; New Generations Furniture Co., Leased Workers of Hamilton-Ryker Co. and Manpower, McKenzie, TN: May 18, 2008

TA-W-70,539; Carrollton Specialty Products Company, Moberly, MO: May 19, 2008

TA-W-70,634; Graphic Visual Solutions Inc., Leased workers from Key Resources, Greensboro, NC: May 20, 2008

TA-W-70,889; Hesco Parts, LLC, Kelly Services,Louisville, KY: May 28, 2008

TA-W-70,909; Martinsville Emulsion Products Company, Inc., Martinsville, VA: May 25, 2008

TA-W-71,155; Boise Cascade, LLC, St. Helens, OR: June 10, 2008

TA-W-71,655A; Rosboro, LLC, Plywood Division, Leased workers from Personal Source, Springfield, OR: July 13, 2008

TA-W-71,655; Rosboro, LLC, Glulam Division, Leased workers from Personal Source, Springfield, OR: July 13, 2008

TA-W-70,378; Carpenter Company, Russelville Division, Cookeville Branch, Cookeville, TN: May 19, 2008

TA-W-70,046; Destination Maternity Corporation, Formerly Mothers Work, Leased workers From PCHS Staffing, Philadelphia, PA: May 18, 2008

TA-W-70,784; Chrysler Group LLC, Kenosha Engine Plant, Kenosha, WI: May 27, 2008

The following certifications have been issued. The requirements of Section 222(a)(2)(B) (shift in production or services) of the Trade Act have been met.

TA-W-70,166A; Health Net, Inc, Information Technology Group, Tempe, AZ: May 18, 2009

TA-W-70,166B; Health Net, Inc, Information Technology Group, Tucson, AZ: May 18, 2009

TA-W-70,166C; Health Net, Inc, Information Technology Group, Huntington Beach, CA: May 18, 2009

TA-W-70,166D; Health Net, Inc, Information Technology Group, Oakland, CA: May 18, 2009

TA-W-70,166E; Health Net, Inc, Information Technology Group, Claims Dept, Kelly, Rancho Cordova, CA: May 18, 2009

TA-W-70,166F; Health Net, Inc, Information Technology Group, San Diego, CA: May 18, 2009

TA-W-70,166G; Health Net, Inc, Information Technology Group, San Rafael, CA: May 18, 2009

TA-W-70,166H; Health Net, Inc, Information Technology Group, Claims Dept, Kelly, Woodland Hills, CA: May 18, 2009

TA-W-70,166I; Health Net, Inc, Information Technology Group, Castle Rock, CO: May 18, 2009

TA-W-70,166J; Health Net, Inc, Information Technology Group, Shelton, CT: May 18, 2009

TA-W-70,166K; Health Net, Inc, Information Technology Group, Rochester, MA: May 18, 2009

TA-W-70,166L; Health Net, Inc, Information Technology Group, Matawan, NJ: May 18, 2009

TA-W-70,166M; Health Net, Inc, Information Technology Group, White Plains, NY: May 18, 2009

TA-W-70,166N; Health Net, Inc, Information Technology Group, Claims Dept, Kelly, Tigard, OR: May 18, 2009

TA-W-70,166O; Health Net, Inc, Information Technology Group, West Kingston, RI: May 18, 2009

TA-W-70,166P; Health Net, Inc, Information Technology Group, Irving, TX: May 18, 2009

TA-W-70,166Q; Health Net, Inc, Information Technology Group, Arlington, VA: May 18, 2009

TA-W-70,166R; Health Net, Inc, Information Technology Group, Bothell, WA: May 18, 2009

TA-W-70,166S; Health Net, Inc, Information Technology Group, Issaquah, WA: May 18, 2009

TA-W-70,166; Health Net, Inc, Information Technology Group, Bullhead City, AZ: May 18, 2009

TA-W-71,356; Child Craft, LLC, New Salisbury, IN: September 8, 2009

TA-W-70,014; Leviton Manufacturing Company, Inc., Warwick, RI: May 18, 2008

TA-W-70,119; Photronics, Inc., Kelly Services and Intermountain Tech, Boise, ID: May 18, 2008

TA-W-70,144; Cadmus Communications, A Subsidiary of Cenveo, On-Site workers of Mack Employment, Tristar, Ephrata, PA: May 18, 2008

TA-W-70,165; Basler Electric Company, Caraway, AR: May 18, 2008

TA-W-70,195; Inergy Automotive Systems LLC, Aerotek, Accountemps, Incat and RCM Tech, Troy, MI: May 18, 2008

TA-W-70,217; SKF Sealing Solutions, Elgin, IL: May 18, 2008

TA-W-70,255; Tyco Safety Products, Adecco Employment Services, Westminster, MA: May 13, 2008

TA-W-70,264; Freeport-McMoran Tyrone Mining LLC, Including all reclamation group employees, Tyrone, NM: May 18, 2008

TA-W-70,289; Datalogic Mobile, Inc., Leased Wkrs from Hire Calling, Kelly Services, Express Personnel Services, Eugene, OR: May 19, 2008

TA-W-70,489; Pace Industries, Monroe City Div., Snelling Personnel Services, Monroe City, MO: May 22, 2008

TA-W-70,565; Hewlett-Packard Company, Business Critical Systems, Mission Critical, Workers in New Hampshire, Marlborough, MA: May 21, 2008

TA-W-70,569; Ainsworth Engineered, USA LLC., Cook, Minnesota, Cook, MN: May 21, 2008

TA-W-70,729; Philips Lighting Company, Lamps Division, Fairmont, WV: May 23, 2008

TA-W-70,779; Columbus Comp Group, Columbus, IN: May 18, 2008

TA-W-70,852; Victaulic Company, Express Employment Professionals, Leland, NC: May 29, 2008

TA-W-70,915; Gardner Bender, Inc., Milwaukee, WI: June 1, 2008

TA-W-70,959; Alpha Technology Corporation, Howell, MI: June 1, 2008

TA-W-71,064A; Premedia Global, Inc., St. Paul, MN: May 19, 2008

TA-W-71,064B; Premedia Global, Inc., Atlantic Heights, NJ: May 19, 2008

TA-W-71,064C; Premedia Global, Inc., Product Development, New York, NY: May 19, 2008

TA-W-71,064D; Premedia Global, Inc., Design and World Languages, New York, NY: May 19, 2008

TA-W-71,064E; Premedia Global, Inc., Pre-Press PMG, Plymouth, MA: May 19, 2008

TA-W-71,064F; Premedia Global, Inc., Beacon PMG, Ashland, OH: May 19, 2008

TA-W-71,064; Premedia Global, Inc., GGS Book Service, York, PA: May 19, 2008

TA-W-71,071; Dura Operating Corporation, D/B/A Dura Automotive Systems, Corp. Office, Rochester Hills, MI: June 1, 2008

TA-W-71,260; Cascade Microtech, Inc., Express Employment, Agilon Finance, Robert Half Management, Beaverton, OR: June 16, 2008

TA-W-71,518; Johnson Controls, Inc., Leased Wkrs From Kelly Temporary Services, Earth City, MO: June 29, 2008

TA-W-71,664; Tate and Lyle Sucralose LLC, Leased Wkrs of Kelly Services and Southern Design Services, McIntosh, AL: June 25, 2008

TA-W-71,676; Cummins, Inc., Parts and Recon-Memphis Plant, Memphis, TN: July 10, 2008

TA-W-71,680; Kone, Inc., Leased Wkrs of Staff Right, Technipower and Aerotek, McKinney, TX: July 14, 2008

TA-W-71,753; The Durham Manufacturing Company, Springfield, MA Plant, Springfield, MA: July 17, 2008

TA-W-71,770; Bollhoff Rivnut, Inc., Fastening and Assembly Technology, Kendallville, IN: July 21, 2008

TA-W-71,786; Eastman Kodak Company, Graphic Communications Group, Pre-Press Solutions, Leased Wkrs of Volt, Kelly Services, Windsor, CO: July 22, 2008

TA-W-71,802; Trelleborg Sealing Solutions US, Inc., Leased Wkrs of Spherion, Somersworth, NH: July 20, 2008

TA-W-71,929; Hirel Systems, Leased Wkrs From Employers Overload, Express Personnel, Hillsboro, OR: August 3, 2008

TA-W-71,942; Alfmeier Corporation, Corestaff Services, Greenville, SC: August 6, 2008

TA-W-72,055; Finisar, A Subsidiary of Finisar Corp., Leased Wkrs From Volt Workforce, Allen, TX: August 17, 2008

TA-W-72,092; American Permanent Ware, Standex International, Sterling Personnel, Dallas, TX: August 18, 2008

TA-W-70,424; URS Washington Division, Working on-site at Caterpillar Inc., Mossville, IL: May 19, 2008

TA-W-70,725; Webb Wheel Products, Inc.—OEM, Cullman, AL: May 19, 2008

TA-W-70,913A; Automatic Systems, Inc., Brighton, MI: May 22, 2008

TA-W-70,913; Automatic Systems, Inc., Leased Wkrs From Midwest Personnel, Kansas City, MO: May 22, 2008

TA-W-71,000; Sypris Technologies Marion LLC, Marion, OH: June 4, 2008

TA-W-71,224; Oracle Lens Manufacturing, Tech/Temps, Quality, Majestic, Colony, Warwick, RI: June 15, 2008

TA-W-70,777; Creditek LLC, Genpact U.S. Holdings, Manpower, CSI, Kelly, One Source, Hanover Township, PA: May 20, 2008

TA-W-70,939; Supervalu Inc., Supply Chain Services Div., Info Tech Dept., Pleasant Prairie, WI: June 3, 2008

TA-W-70,995; The Northwest Company International Inc., d/b/a Alaska Commercial Co., Weststaff, Anchorage, AK June 3, 2008

TA-W-71,206A; Comdata Network, Inc., A Subsidiary of Ceridian Corp., El Paso, TX: June 12, 2008

TA-W-71,206; Stored Value Solutions, Inc., Ceridian Corp., Leased Wkrs from Today's Office Professionals, El Paso, TX: June 12, 2008

TA-W-71,479; Eastman Kodak Company, Global Contact Center, Adecco, Datrose, Rochester, NY: June 25, 2008

TA-W-71,677; Bank of America, Operations and Workforce Management, Rio Rancho, NM: July 5, 2008

TA-W-71,715; Citicorp Credit Services, Inc. (USA), Operations—Deliver, Strategy and Development, Kingsport, TN: July 7, 2008

TA-W-71,778; Digital River, Inc., Call Center Operations, Leased Wkrs from Masterson Personnel, Eden Prairie, MN: July 21, 2008

TA-W-71,834; Ceridian Corporation, Broadview Heights, OH: July 16, 2008

TA-W-70,044; Croscill Acquisition, LLC, Oxford, NC: May 18, 2008

TA-W-70,761; Reiman Media Group, Inc., Readers Digest Association, IT Dept., Leased Wkrs New Resources and Kforce, Greendale, WI: May 28, 2008

TA-W-70,785; International Business Systems, U.S. (IBM), Software Programming Dept., Folsom, CA: May 27, 2008

TA-W-71,002; VF Outlet, Inc., IT Department, Chris Talarico, Wipro, Account Temps, Reading, PA: June 4, 2008

The following certifications have been issued. The requirements of Section 222(b) (adversely affected workers in public agencies) of the Trade Act have been met.

None

The following certifications have been issued. The requirements of Section 222(c) (supplier to a firm whose workers are certified eligible to apply for TAA) of the Trade Act have been met.

TA-W-70,009; P.M. Kelly, Inc., Ashland, ME: May 18, 2008

TA-W-71,095; Future Die Cast and Engineering, Inc., Leased Wkrs From Labor Ready Midwest, Shelby Township, MI: June 3, 2008

TA-W-70,054; Precision Coil, Inc., Clarksburg, WV: May 18, 2008

TA-W-70,241; Alabama Wire Company, Inc., A Subsidiary of SSW Holding Company, Elizabethtown, KY: May 18, 2008

TA-W-70,297; Reynolds Wheel International, dba Alcoa Wheel and Transport. Products, Forged Specialty Wheels Division, Lebanon, VA: May 19, 2008

TA-W-70,306; Noble Metal Processing, Inc., Warren, MI: May 19, 2008

TA-W-70,329; GI Tech Group, LLC, d/b/a/ Tech Group Industries, Van Buren, AR: May 19, 2008

TA-W-70,372; Tower Automotive, Elkton Business Unit, Elkton, MI: May 19, 2008

TA-W-70,452; International Paper, CTA-Industrial Packaging Division, Leased Wkrs From Manpower, Howell, MI: May 22, 2008

TA-W-70,486; Eclipse Manufacturing Company, Pikeville, TN: May 21, 2008

TA-W-70,814; Findlay Industries Inc., Dublin Division, Dublin, VA: May 27, 2008

TA-W-71,037; Chardon Rubber Company, Mid-Weston Temp and Thomas Employment, Chardon, OH: June 4, 2008

TA-W-70,214; W and N Machine Shop, Inc., St. Marys, PA: May 18, 2008

TA-W-70,323; Tokyo Electron America, Inc, TEA—Leased Wkrs from Kelly Engineering Resources, Boise, ID: May 19, 2008

TA-W-70,996; Voith Paper Rolls Central, Inc., Neenah Plant, Cadre, Neenah, WI: May 27, 2008

TA-W-71,471; Syncreon, Leased Wkrs From Pro Logistics, Pro Drivers, American Staffing, Fenton, MO: June 26, 2008

The following certifications have been issued. The requirements of Section 222(c) (downstream producer for a firm whose workers are certified eligible to apply for TAA) of the Trade Act have been met.

None

The following certifications have been issued. The requirements of Section 222(f) (firms identified by the International Trade Commission) of the Trade Act have been met.

TA-W-70,627; Bridgestone Americas Tire Operation LLC, a.k.a. Bridgestone Americas Holding, Normal, IL: May 27, 2008

TA-W-71,658A; Cooper Tire and Rubber Company, Camden, NJ: June 25, 2008

TA-W-71,658; Cooper Tire and Rubber Company, Leased Wkrs of Premium Personnel and Kann Enterprises, Moraine, OH June 25, 2008

Negative Determinations For Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-70,631; Electronic Data Systems, An HP Company, Plano, TX

TA-W-70,718; CJ Industrial Supply, Working on-site at Whirlpool Corporation, Oxford, MS

TA-W-70,799; Avaya Inc., Finance Department, Westminster, CO

TA-W-71,070; Parkside Mortgage Corporation, Philadelphia, PA

The investigation revealed that the criteria under paragraphs (a)(2)(A)(i) (decline in sales or production, or both) and (a)(2)(B) (shift in production or services to a foreign country) of section 222 have not been met.

None

The investigation revealed that the criteria under paragraphs (a)(2)(A) (increased imports) and (a)(2)(B) (shift in production or services to a foreign country) of section 222 have not been met.

TA-W-70,008; Formtek, Inc., Clinton, ME

TA-W-70,100; Andres Tool & Die, Working as Steel Tool and Die, St. Marys, PA

TA-W-70,230; Millinocket Fabrication and Machine, Inc., Millinocket, ME

TA-W-70,279; Energy Partner, LTD, New Orleans, LA

TA-W-70,369; Wabash Wood Products, Harrison, AR

TA-W-70,540; JELD-WEN Wood Fiber Division, White Swan, WA

TA-W-70,739; Chrysler Group LLC, Newark Assembly Plant, Newark, DE

TA-W-71,585; Alyeska Pipeline Service Company, Anchorage, AK

TA-W-70,078; Eaton Aviation Corporation, Aviation and Aerospace Components Division, Aurora, CO

TA-W-70,387; Conrad Imports, Inc., San Francisco, CA

TA-W-70,485; JJ Collins Sons, Inc., Charleston, IL

TA-W-70,747; San Francisco Maintenance Center, A Subsidiary of United Airlines, Inc., San Francisco, CA

TA-W-71,615; Frontier Airlines, Inc., El Paso, TX

The investigation revealed that the criteria under paragraphs (b)(2) and (b)(3) (public agency acquisition of services from a foreign country) of section 222 have not been met.

None

The investigation revealed that criteria of Section 222(c)(2) has not been met. The workers' firm (or subdivision) is not a Supplier to or a Downstream Producer for a firm whose workers were certified as eligible to apply for TAA.

TA-W-71,744; Young Services, Inc., Toledo, OH

I hereby certify that the aforementioned determinations were issued during the period of August 24 through September 4, 2009. Copies of these determinations are available for inspection in Room N-5428, U.S. Department of Labor, 200 Constitution Avenue, NW., Washington, DC 20210 during normal business hours or will be mailed to persons who write to the above address.

Dated: October 22, 2009.
Elliott S. Kushner,
Certifying Officer, Division of Trade Adjustment Assistance.

[FR Doc. E9-26566 Filed 11-4-09; 8:45 am]

BILLING CODE 4510-FN-P